DEPARTMENT OF LABOR

Employment and Training Administration

[TA-W-82,999]

ATOS IT Solutions & Services, Inc., Billing and Collections Department, Including Workers Whose Unemployment Insurance (UI) Wages are Reported Through Siemens IT Solutions and Services, Mason, Ohio; Amended Certification Regarding Eligibility To Apply for Worker Adjustment Assistance

In accordance with Section 223 of the Trade Act of 1974, as amended (“Act”), 19 U.S.C. 2273, the Department of Labor issued a Certification of Eligibility to Apply for Worker Adjustment Assistance on October 17, 2013, applicable to workers of ATOS IT Solutions & Services, Inc., Billing and Collections Department, Mason, Ohio. The workers are engaged in activities related to the supply of accounting services for the subject firm. The notice was published in the Federal Register on November 6, 2013 (78 FR 66782).

At the request of Ohio State, the Department reviewed the certification for workers of the subject firm. New information from the company shows that some workers separated from employment at the Mason, Ohio location of ATOS IT Solutions & Services, Inc., Billing and Collections Department had their wages reported through a separate unemployment insurance (UI) tax account under the name Siemens IT Solutions and Services.

Accordingly, the Department is amending this certification to include workers of the subject firm whose unemployment insurance (UI) wages are reported through Siemens IT Solutions and Services.

The intent of the Department's certification is to include all workers of the subject firm who were adversely affected by a shift in accounting services to a foreign country. The amended notice applicable to TA-W-82,999 is hereby issued as follows:

“All workers of ATOS IT Solutions & Services, Inc., Billing and Collections Department, including workers whose unemployment insurance (UI) wages are reported through Siemens IT Solutions and Services, Mason, Ohio, who became totally or partially separated from employment on or after August 16, 2012, through October 17, 2015, and all workers in the group threatened with total or partial separation from employment on date of certification through two years from the date of certification, are eligible to apply for adjustment assistance under Chapter 2 of Title II of the Trade Act of 1974, as amended.”

Signed at Washington, DC this 12th day of November 2013.
Del Min Amy Chen,
Certifying Officer, Office of Trade Adjustment Assistance.

[FR Doc. 2013-28332 Filed 11-25-13; 8:45 am]

BILLING CODE 4510-FN-P